DEPARTMENT OF HOMELAND SECURITY

Transportation Security Administration

Intent To Request a Revision From OMB of One Current Public Collection of Information: Law Enforcement Officers (LEOs) Flying Armed

AGENCY: Transportation Security Administration, DHS.

ACTION: 60-Day notice.

SUMMARY: The Transportation Security Administration (TSA) invites public comment on one currently-approved Information Collection Request (ICR), Office of Management and Budget (OMB) control number 1652-0072, that we will submit to OMB for a revision in compliance with the Paperwork Reduction Act (PRA). The ICR describes the nature of the information collection and its expected burden. The collection involves gathering information from state, local, and tribal armed law enforcement officers (LEOs) who require specialized screening at the checkpoint.

DATES: Send your comments by April 11, 2022.

ADDRESSES: Comments may be emailed to TSAPRA@tsa.dhs.gov or delivered to the TSA PRA Officer, Information Technology (IT), TSA-11, Transportation Security Administration, 6595 Springfield Center Drive, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

TSA has broad statutory authority to assess a security risk for any mode of transportation, develop security measures for dealing with that risk, and enforce compliance with those measures.¹

¹ See 49 U.S.C. 114.

TSA's mission includes the screening of individuals, accessible property, checked baggage, and cargo before boarding or loading on an aircraft to prevent or deter the carriage of any explosive, incendiary, or deadly or dangerous weapon on an aircraft. Under 49 CFR 1540.107, individuals are required to submit to screening and inspection before entering a sterile area of an airport or boarding an aircraft. The prohibition on carrying a weapon, however, does not apply to LEOs required to carry a firearm or other weapons while in the performance of law enforcement duties at the airport. See 49 CFR 1540.111(b). In addition, LEOs may fly armed if they meet the requirements of 49 CFR 1544.219. This section includes requirements for being a Federal, municipal, county, or state law enforcement officer; authorization to carry the weapon; training for flying armed; validation of the need for the weapon to be accessible aboard the aircraft; and notification requirements. This section also discusses prohibitions related to alcoholic beverage consumption, and the appropriate location of the weapon while aboard the aircraft.

TSA has established a specialized screening process for state, local, and tribal LEOs when they are flying armed and need to go through screening at the checkpoint. When this situation occurs, LEOs are required to complete TSA Form 413A, Checkpoint Sign-In Log.

The information collected on TSA Form 413A includes identifying information for the LEOs; an affirmation that they are authorized to fly armed on official business and that they have an operational need to have their weapon accessible during the flight in accordance with 49 CFR part 1544; and identification of weapons they are carrying. TSA is revising the information collection by amending the identification of weapons section of the form, removing the language “CBP only.” TSA inadvertently included the limitation language “CBP only” in reference to LEOs carrying knives. However, there is no restriction as all LEOs may carry knives.

The information required by the form is used by the TSA Security Operations Center and the Law Enforcement/Federal Air Marshal Service in order to have situational awareness of armed LEOs presence on flights conducted by 49 CFR parts 1544 and/or 1546 regulated parties (aircraft operators and foreign air carriers). This real-time situational awareness is necessary in the event of an emergency on board the aircraft; such as but not limited to, a disruptive passenger, air piracy, or other threat to the safety and security of a commercial aircraft.

Respondents to this collection are state, local, and tribal police officers travelling with their weapons. TSA uses historical data to estimate 68,000 average annual responses. Each check-in requires filling out a log book and TSA estimates this activity requires one minute (0.016667 hours) to complete. TSA estimates this collection will place an annual average hour burden of 1,133 hours on the public.

Dated: February 7, 2022.
Christina A. Walsh,
TSA Paperwork Reduction Act Officer, Information Technology.

[FR Doc. 2022-02835 Filed 2-9-22; 8:45 am]

BILLING CODE 9110-05-P